Title 3—

The President

Proclamation 7512 of December 7, 2001

To Implement the Agreement Between the United States of America and the Hashemite Kingdom of Jordan on the Establishment of a Free Trade Area

By the President of the United States of America

A Proclamation

1. On October 24, 2000, the United States of America and the Hashemite Kingdom of Jordan entered into an Agreement on the Establishment of a Free Trade Area (the “JFTA”).

2. Section 101 of the United States-Jordan Free Trade Area Implementation Act (the “JFTA Act”) (Public Law 107-43, 115 Stat. 243) (19 U.S.C. 2112 Note) authorizes the President to proclaim such modifications or continuation of any duty, such continuation of duty-free or excise treatment, or such additional duties, as the President determines to be necessary or appropriate to carry out Article 2.1 of the JFTA and the schedule of duty reductions with respect to Jordan set out in Annex 2.1 of the JFTA.

3. Section 102 of the JFTA Act provides certain rules for determining whether an article is wholly the growth, product, or manufacture of Jordan, or is a new or different article of commerce that has been grown, produced, or manufactured in Jordan and thus is eligible for the tariff and certain other treatment contemplated under the JFTA (“products of Jordan”). I have determined that it is necessary to include these rules of origin, together with particular rules applicable to certain other goods, in the Harmonized Tariff Schedule of the United States (HTS).

4. Section 604 of the Trade Act of 1974, as amended (the “1974 Act”) (19 U.S.C. 2483) authorizes the President to embody in the HTS the substance of relevant provisions of that Act, of other Acts affecting import treatment, and of actions taken thereunder.

NOW, THEREFORE, I, GEORGE W. BUSH, President of the United States of America, acting under the authority vested in me by the Constitution and the laws of the United States of America, including sections 101 and 102 of the JFTA Act and 604 of the 1974 Act, do proclaim that:

(1) In order to—

(a) provide generally for the preferential tariff treatment being accorded under the JFTA and to set forth rules for determining whether goods imported into the customs territory of the United States are eligible for preferential treatment under the JFTA, and

(b) provide tariff-rate quotas with respect to certain products of Jordan and to make technical and conforming changes in specified HTS provisions for purposes of the JFTA, the HTS is modified as set forth in Annex I to this proclamation.

(2) In order to implement the initial stage of duty elimination provided for in the JFTA and to provide for future staged reductions in duties for products of Jordan for purposes of the JFTA, the HTS is modified as provided in Annex II to this proclamation, effective on the date specified in such Annex for each HTS provision and on any subsequent dates set forth for such provisions in Annex II columns.

(3) All provisions of previous proclamations and Executive Orders that are inconsistent with the actions taken in this proclamation are hereby superseded to the extent of such inconsistency.

(4) (a) The amendments to the HTS made by paragraphs (1)(b) and (2) of this proclamation shall be effective with respect to goods entered, or withdrawn from warehouse for consumption, on or after the dates indicated in Annexes I and II to this proclamation.

(b) Except as provided in subparagraph (a), this proclamation shall be effective with respect to goods entered, or withdrawn from warehouse for consumption, on or after December 17, 2001.

IN WITNESS WHEREOF, I have hereunto set my hand this seventh day of December, in the year of our Lord two thousand one, and of the Independence of the United States of America the two hundred and twenty-sixth.

B

Billing code 3195-01-P

[FR Doc. 01-30785

Filed 12-10-01; 8:51 am]

Billing code 3190-01-C